DEPARTMENT OF HOMELAND SECURITY

Coast Guard

33 CFR Part 100

[Docket No. USCG-2024-0316]

Special Local Regulation; Marine Events Within the Captain of the Port Miami

AGENCY: Coast Guard, DHS.

ACTION: Notice of enforcement of regulation.

SUMMARY: The Coast Guard will enforce a special local regulation for the Fort Lauderdale Air Show event from May 9-12, 2024, to provide for the safety of life on navigable waterways during this event. Our regulation for marine events within the Captain of the Port Miami identifies the regulated area for this event in Fort Lauderdale, FL. During the enforcement periods, no person or vessel may enter, transit through, anchor in, or remain within the regulated area unless authorized by the Coast Guard Patrol Commander or a designated representative.

DATES: The regulation in 33 CFR 100.702, will be enforced from 9 a.m. through 6 p.m., from May 9, 2024, through May 12, 2024, for the regulated area listed in item no. 3 of table 1 to § 100.702.

FOR FURTHER INFORMATION CONTACT: If you have questions about this notice of enforcement, call or email Robert Michael Olivas, Sector Miami Waterways Management Division, U.S. Coast Guard: telephone 305-535-4317, Email: Robet.M.Olivas2@uscg.mil.

SUPPLEMENTARY INFORMATION: The Coast Guard will enforce special local regulation in 33 CFR 100.702 for the Fort Lauderdale Air Show event regulated area identified in table 1 to § 100.702, item no. 3, from 9 a.m. through 6 p.m., each day from May 9, 2024, through May 12, 2024. This action is being taken to provide for the safety of life on navigable waterways during this event. Marine Events within the Captain of the Port Miami § 100.702, table 1, item 3, specifies the location of the regulated area Fort Lauderdale Air Show event which encompasses portions of Atlantic Ocean and Fort Lauderdale Beach. Under the provisions of § 100.702(c), all persons and vessels are prohibited from entering the regulated area, except those persons and vessels participating in the event, unless they receive permission to do so from the Coast Guard Patrol Commander, or designated representative.

Under the provisions of § 100.702,(c) spectator vessels may safely transit outside the regulated area, but may not anchor, block, loiter in, impede the transit of festival participants or official patrol vessels or enter the regulated area without approval from the Coast Guard Patrol Commander or a designated representative. The Coast Guard may be assisted by other Federal, State, or local law enforcement agencies in enforcing this regulation. In addition to this notice of enforcement in the Federal Register, the Coast Guard will provide notice of the regulated area via Local Notice to Mariners, Marine Safety Information Bulletins, Broadcast Notice to Mariners, and on-scene designated representatives.

Dated: April 26, 2024.
C.R. Cederholm,
Captain, U.S. Coast Guard, Captain of the Port Miami.

[FR Doc. 2024-09535 Filed 5-1-24; 8:45 am]

BILLING CODE 9110-04-P